DEPARTMENT OF EDUCATION

Applications for New Awards; Native Hawaiian Career and Technical Education Program (NHCTEP)

AGENCY: Office of Career, Technical, and Adult Education, Department of Education.

ACTION: Notice.

SUMMARY: The Department of Education (Department) is issuing a notice inviting applications for new awards for fiscal year (FY) 2021 for the Native Hawaiian Career and Technical Education Program (NHCTEP), Assistance Listing number 84.259A. This notice relates to the approved information collection under OMB control number 1830-0564.

DATES:

Applications Available: January 19, 2021.

Deadline for Notice of Intent to Apply: Applicants are strongly encouraged, but not required, to submit a notice of intent to apply by February 18, 2021.

Date of Pre-Application Meeting: February 2, 2021.

Deadline for Transmittal of Applications: March 22, 2021.

Deadline for Intergovernmental Review: May 19, 2021.

Pre-Application Webinar Information: The Department will hold a pre-application meeting via webinar for prospective applicants on February 2, 2021. More information about the webinar can be found in the application package.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Jim Means, U.S. Department of Education, 400 Maryland Avenue SW, Potomac Center Plaza, Room 11-076, Washington, DC 20202. Telephone: (202) 245-8222. Email: NHCTEPgrant@ed.gov. If you use a telecommunications device for the deaf (TDD) or a text telephone (TTY), call the Federal Relay Service (FRS), toll free, at 1-800-877-8339.

SUPPLEMENTARY INFORMATION:

Full Text of Announcement

I. Funding Opportunity Description

Purpose of Program

NHCTEP provides grants to improve career and technical education (CTE) programs that are consistent with the purposes of the Carl D. Perkins Career and Technical Education Act of 2006, as amended by the Strengthening Career and Technical Education for the 21st Century Act (Perkins V) and that benefit Native Hawaiians. Section 116(e) of Perkins V provides that programs, services, and activities funded under NHCTEP must support and improve career and technical education programs. (20 U.S.C. 2326(e)

Background

This notice invites applications for a competition for NHCTEP grants under Perkins V. Section 116(h) of Perkins V authorizes the Secretary of Education (Secretary) to award grants to community-based organizations primarily serving and representing Native Hawaiians to plan, conduct, and administer programs, or portions of programs, that are for the benefit of Native Hawaiians and authorized by and consistent with Perkins V.

Statutory Changes Affecting NHCTEP

For the convenience of applicants, we summarize in this notice some of the major statutory changes made to the Carl D. Perkins Career and Technical Education Act of 2006 by Perkins V that are relevant to NHCTEP. This summary is not meant to be comprehensive of all Perkins V changes applicable to NHCTEP.

(a) Purpose. Congress amended the statement of purpose of the law in Perkins V, most significantly by adding, as a new purpose, increasing employment opportunities for populations who are chronically unemployed or underemployed, including individuals with disabilities; individuals from economically disadvantaged families; out-of-workforce individuals; youth who are in or have aged out of the foster care system; and homeless individuals (20 U.S.C. 2301(8)). Other amendments to the purpose incorporate references to programs of study and the development of employability skills by students; delete the term “tech-prep education”; and change a reference to “high-demand occupations” to “in-demand occupation,” a new term defined by Perkins V (20 U.S.C. 2302(26)).

(b) Definitions. Congress amended the definitions of certain terms that affect NHCTEP. Most significant among these are changes to the definition of “career and technical education” in section 3(5) of Perkins V (20 U.S.C. 2302(5)). The new definition of CTE now allows CTE programs to provide “a recognized postsecondary credential,” as defined in section 3 of the Workforce Innovation and Opportunity Act (WIOA),¹ and allows CTE to include “career exploration at the high school level or as early as the middle grades (as such term is defined in section 8101 of the Elementary and Secondary Education Act of 1965, as amended (ESEA).” ² The amended definition of CTE also provides that, to the extent practicable, CTE should include coordination between secondary and postsecondary education programs through programs of study, which may include coordination through articulation agreements, early college high school programs, dual or concurrent enrollment program opportunities, or other credit transfer agreements that provide postsecondary credit or advanced standing.

¹ Section 3(52) of WIOA defines the term “recognized postsecondary credential” to mean “a credential consisting of an industry-recognized certificate or certification, a certificate of completion of an apprenticeship, a license recognized by the State involved or Federal Government, or an associate or baccalaureate degree.”

² Section 8101(32) of the ESEA defines the term “middle grades” to mean “any of grades 5 through 8.”

Additionally, the definition of CTE now includes work-based learning (20 U.S.C. 2302(55)). For NHCTEP grantees, this means that students may be paid stipends not only for time they spend in class receiving instruction, but also for participating in unpaid work-based learning that is part of a CTE program that meets the Perkins V definition of CTE.

Congress also made significant changes to the definition of “special populations” (20 U.S.C. 2302(48)). Perkins V now includes three additional subpopulations within this definition: Homeless individuals described in section 725 of the McKinney-Vento Homeless Assistance Act (42 U.S.C. 11434a); youth who are in or have aged out of the foster care system; and youth with a parent who is a member of the armed forces (as defined in 10 U.S.C. 101(a)(4)) and who is on active duty (as defined in 10 U.S.C. 101(d)(1)). Also, the term “displaced homemakers” has been removed and replaced by the term “out-of-workforce individuals,” which includes: Displaced homemakers, as defined in section 3 of WIOA (29 U.S.C. 3102); and unemployed or underemployed individuals who are experiencing difficulty in obtaining or upgrading employment who are either an individual who has worked primarily without remuneration to care for a home and family, and for that reason has diminished marketable skills, or is a parent whose youngest dependent child will become ineligible to receive assistance under the Temporary Assistance for Needy Families (TANF) program not later than two years after the date on which the parent applies for TANF assistance (20 U.S.C. 2302(36)). Additionally, the term “individuals with limited English proficiency” has been changed to “English learners” and the definition of this latter term has been aligned with the definition of this term in ESEA so that it now includes any secondary student who is an English learner as defined by section 8101 of ESEA (20 U.S.C. 2302(22)).

(c) Authorized activities. A new allowable use of funds in Perkins V permits NHCTEP grant funds to be used to provide preparatory, refresher, and remedial education services that are designed to enable students to achieve success in CTE programs or programs of study (20 U.S.C. 2326(c)(2)).

Finally, section 134(c) of Perkins V requires subrecipients of funds under Perkins V to conduct a local comprehensive needs assessment that must include a description of how CTE programs are aligned to State, regional, Tribal, or local in-demand industry sectors or occupations and are designed to meet local education or economic needs. The assessments must be updated every two years. Eligible applicants for NHCTEP may wish to review the comprehensive local needs assessment and use its data to inform project design and to better prepare Native Hawaiian students for successful careers.

Fiscal Year 2021 Competition

For this competition, through the absolute priority, we require applicants to incorporate evidence into their project design. Evidence-based interventions are practices or programs that have evidence to show that they are supported by research or an evaluation. Applicants for this competition must submit evidence that demonstrates a rationale, as defined in this notice.

Requirements and Selection Criteria

This notice includes program requirements and selection criteria that are from statutory requirements or from the Notice of Final Requirements, Definitions, and Selection Criteria published in the Federal Register on March 24, 2009 (Notice of Final Requirements) (74 FR 12341). In addition, some requirements are based on those in the Notice of Final Requirements but established in accordance with section 437(d)(1) of the General Education Provisions Act (GEPA) in order to make some modifications to those requirements and selection criteria due primarily to changes in the program's authorizing statute.

Priorities: This competition includes one absolute priority and one competitive preference priority. The absolute priority is from the notice of final priorities for discretionary grant programs, published in the Federal Register on March 9, 2020 (85 FR 13640) (Administrative Priorities). The competitive preference priority is from the Secretary's notice of final supplemental priorities and definitions, published in the Federal Register on March 2, 2018 (83 FR 9096) (Supplemental Priorities).

Absolute Priority: For FY 2021, and any subsequent year in which we make awards from the list of unfunded applications from this competition, this priority is an absolute priority. Under 34 CFR 75.105(c)(3), we consider only applications that meet the absolute priority.

This priority is:

Demonstrates a Rationale.

Under this priority, an applicant proposes a project that demonstrates a rationale (as defined in this notice).

Note: Applicants may wish to review the following technical assistance resources on evaluation and logic models:

(1) The Logic Model Workshop Toolkit developed by the Institute of Education Sciences: https://ies.ed.gov/ncee/edlabs/regions/northeast/pdf/REL_2015057.pdf;

(2) The Ideas that Work website hosted by the Office of Special Education Programs: https://osepideasthatwork.org/evaluation. This page includes additional resources on planning and conducting evaluation activities and developing logic models and high-quality objectives and performance measures.

Competitive Preference Priority: For FY 2021, and any subsequent year in which we make awards from the list of unfunded applications from this competition, this priority is a competitive preference priority. Under 34 CFR 75.105(c)(2)(i), we award up to an additional five points to an application, depending on how well the application meets this competitive preference priority. If an applicant chooses to address this competitive preference priority, the project narrative section of its application must identify its response to the competitive preference priority.

This priority is:

Promoting Science, Technology, Engineering, or Math (STEM) Education, With a Particular Focus on Computer Science (up to 5 points).

Projects designed to improve student achievement or other educational outcomes in one or more of the following areas: Science, technology, engineering, math, or computer science (as defined in this notice). These projects must address increasing access to STEM coursework, including computer science, and hands-on learning opportunities, such as through expanded course offerings, dual-enrollment, high-quality online coursework, or other innovative delivery mechanisms.

Requirements: These program requirements are established in accordance with section 437(d)(1) of GEPA unless a specific statutory or regulatory citation for the requirement is provided.

The program requirements are:

Requirement 1—Authorized Programs:

(a) Section 116 of Perkins V requires the Secretary to ensure that activities funded under NHCTEP “will improve career and technical education programs” (20 U.S.C. 2326(e)), as the term “career and technical education” is defined by Perkins V (20 U.S.C. 2302(5)). Therefore, under NHCTEP, the Assistant Secretary will award grants to carry out projects that—

(1) Propose organized educational activities offering a sequence of courses that—

(A) Provide individuals with rigorous academic content and relevant technical knowledge and skills needed to prepare for further education and careers in current or emerging professions, which may include high-skill, high-wage, or in-demand industry sectors or occupations, which shall be, at the secondary level, aligned with the challenging State academic standards adopted by a State under section 1111(b)(1) of the ESEA;

(B) Provide technical skill proficiency or a recognized postsecondary credential, which may include an industry-recognized credential, a certificate, or an associate degree; and

(C) May include prerequisite courses that meet the requirements of this subparagraph;

(2) Include competency-based, work-based, or other applied learning that supports the development of academic knowledge, higher-order reasoning and problem-solving skills, work attitudes, employability skills, technical skills, and occupation-specific skills, and knowledge of all aspects of an industry, including entrepreneurship, of an individual;

(3) To the extent practicable, coordinate between secondary and postsecondary education programs through programs of study, which may include coordination through articulation agreements, early college high school programs, dual or concurrent enrollment program opportunities, or other credit transfer agreements that provide postsecondary credit or advanced standing; and

(4) May include career exploration at the high school level or as early as the middle grades (as such term is defined in section 8101 of ESEA).

(b) Special rule. Notwithstanding section 3(5)(A)(iii) of the Act, which excludes remedial courses from the definition of “career and technical education,” funds made available under NHCTEP for CTE may be used to provide preparatory, refresher, and remedial education services that are designed to enable students to achieve success in CTE programs or programs of study.

Requirement 2—Evaluation:

To help ensure the high quality of NHCTEP projects and the achievement of the goals and purposes of section 116 of the Act, each grantee must budget for and conduct an ongoing evaluation of its NHCTEP project. An independent evaluator must conduct the evaluation. The evaluation must be appropriate for the project and be both formative and summative in nature.

Requirement 3—Student Stipends:

(1) A portion of an award under this program may be used to provide stipends (as defined in this notice) to help students meet the costs of participation in a NHCTEP project.

(2) To be eligible for a stipend a student must—

(i) Be enrolled in a CTE project funded under this program;

(ii) Be in regular attendance in a NHCTEP project and meet the training institution's attendance requirement;

(iii) Maintain satisfactory progress in his or her program of study according to the training institution's published standards for satisfactory progress; and

(iv) Have an acute economic need that—

(A) Prevents participation in a project funded under this program without a stipend; and

(B) Cannot be met through a work-study program.

(3) The amount of a stipend is the greater of either the minimum hourly wage prescribed by State or local law, or the minimum hourly wage established under the Fair Labor Standards Act.

(4) A grantee may only award a stipend if the stipend combined with other resources the student receives does not exceed the student's financial need. A student's financial need is the difference between the student's cost of attendance and the financial aid or other resources available to defray the student's cost of participating in a NHCTEP project.

(5) To calculate the amount of a student's stipend, a grantee must multiply the number of hours a student actually attends CTE instruction by the amount of the minimum hourly wage that is prescribed by State or local law, or by the minimum hourly wage that is established under the Fair Labor Standards Act. The grantee must reduce the amount of a stipend if necessary to ensure that it does not exceed the student's financial need.

Example: If a grantee uses the Fair Labor Standards Act minimum hourly wage of $7.25 and a student attends classes for 20 hours a week, the student's stipend would be $145 for the week during which the student attends classes ($7.25 × 20 = $145.00). If the program lasts 16 weeks and the student's total financial need is $2,000, the grantee must reduce the weekly stipend to $125, because the total stipend for the course would otherwise exceed the student's financial need by $320 (or $20 a week).

Note: Grantees must maintain records that fully support their decisions to award stipends to students, as well as the amounts that are paid, such as proof of a student's enrollment in the NHCTEP project, stipend applications, timesheets showing the number of hours of student attendance that are confirmed in writing by an instructor, student financial status information, and evidence that a student would not be able to participate in the NHCTEP funds without a stipend. (See generally 20 U.S.C. 1232f; 34 CFR 75.700-75.702; 75.730; and 75.731.)

(6) An eligible student may receive a stipend when taking a course for the first time, although a stipend may not be provided to a student for a particular course if the student has already taken, completed, and had the opportunity to benefit from a course and is merely repeating the course.

(7) An applicant must include, in its application, the procedure it intends to use to determine student eligibility for stipends and stipend amounts, and its oversight procedures for the awarding and payment of stipends. (Notice of Final Requirements).

Requirement 4—Direct Assistance to Students:

A grantee may provide direct assistance (as defined in this notice) to a student only if the following conditions are met:

(1) The recipient of the direct assistance is an individual who is a member of a special population (as defined in section 3(48) of Perkins V) and who is participating in a NHCTEP project.

(2) The direct assistance is needed to address barriers to the individual's successful participation in a NHCTEP project.

(3) The direct assistance is part of a broader, more generally focused program or activity for addressing the needs of an individual who is a member of a special population.

Note: Direct assistance to individuals who are members of special populations is not, by itself, a “program or activity for special populations.”

(4) The grant funds used for direct assistance must be expended to supplement, and not supplant, assistance that is otherwise available from non-Federal sources. For example, generally, a community-based organization could not use NHCTEP funds to provide child care for single parents if non-Federal funds previously were made available for this purpose, or if non-Federal funds are used to provide child care services for single parents participating in non-career and technical education programs and these services otherwise (in the absence of NHCTEP funds) would have been available to CTE students.

(5) In determining how much of the NHCTEP grant funds it will use for direct assistance to an eligible student, a grantee—

(i) May only provide assistance to the extent that it is needed to address barriers to the individual's successful participation in CTE; and

(ii) Considers whether the specific services to be provided are a reasonable and necessary cost of providing CTE programs for special populations. However, the Secretary does not envision a circumstance in which it would be a reasonable and necessary expenditure of NHCTEP project funds for a grantee to utilize a majority of a project's budget to pay direct assistance to students, in lieu of providing the students served by the project with CTE. (Notice of Final Requirements.)

Requirement 5—Career and Technical Education Memorandum of Understanding:

Any applicant that is not proposing to provide CTE directly to Native Hawaiian students and proposes instead to pay one or more qualified educational entities to provide such CTE to Native Hawaiian students must include with its application a signed memorandum of understanding (MOU) between the applicant and the educational entity. The MOU must describe the commitment between the applicant and the educational entity and must include, at a minimum, a statement of the responsibilities of the applicant and the entity. The MOU must be signed by the appropriate individuals on behalf of each party, such as the authorizing official or administrative head of the applicant Native Hawaiian community-based organization.

Definitions: These definitions are from Perkins V, the Supplemental Priorities, the Notice of Final Requirements, or 34 CFR 77.1. The source of each definition is noted after the definition.

Acute economic need means an income that is at or below the national poverty level according to the latest available data from the U.S. Department of Commerce or the U.S. Department of Health and Human Services Poverty Guidelines. (Notice of Final Requirements).

Career and technical education (CTE) means organized educational activities that—

(a) Offer a sequence of courses that—

(1) Provides individuals with rigorous academic content and relevant technical knowledge and skills needed to prepare for further education and careers in current or emerging professions, which may include high-skill, high-wage, or in-demand industry sectors or occupations, which shall be, at the secondary level, aligned with the challenging State academic standards adopted by a State under section 1111(b)(1) of the ESEA;

(2) Provides technical skill proficiency or a recognized postsecondary credential, which may include an industry-recognized credential, a certificate, or an associate degree; and

(3) May include prerequisite courses (other than a remedial course) ³ that meet the requirements of this paragraph (a);

³ Section 116(c)(2) of Perkins V provides that, notwithstanding the exclusion of remedial courses from Perkins V's definition of CTE, funds made available under NHCTEP “may be used to provide preparatory, refresher, and remedial education services that are designed to enable students to achieve success in career and technical education programs or programs of study.”

(b) Include competency-based, work-based, or other applied learning that supports the development of academic knowledge, higher-order reasoning and problem-solving skills, work attitudes, employability skills, technical skills, and occupation-specific skills, and knowledge of all aspects of an industry, including entrepreneurship, of an individual;

(c) To the extent practicable, coordinate between secondary and postsecondary education programs through programs of study, which may include coordination through articulation agreements, early college high school programs, dual or concurrent enrollment program opportunities, or other credit transfer agreements that provide postsecondary credit or advanced standing; and

(d) May include career exploration at the high school level or as early as the middle grades (as such term is defined in section 8101 of the ESEA). (20 U.S.C. 2302(5)).

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects. (Supplemental Priorities).

CTE concentrator means—

(a) At the secondary school level, a student served by an eligible recipient who has completed at least two courses in a single career and technical education program or program of study; and

(b) At the postsecondary level, a student enrolled in an eligible recipient who has—

(1) Earned at least 12 credits within a career and technical education program or program of study; or

(2) Completed such a program if the program encompasses fewer than 12 credits or the equivalent in total. (20 U.S.C. 2302(12))

Demonstrates a rationale means a key project component included in the project's logic model is informed by research or evaluation findings that suggest the project component is likely to improve relevant outcomes. (34 CFR 77.1).

Direct assistance to students means tuition, dependent care, transportation, books, and supplies that are necessary for a student to participate in a project funded under this program. (Notice of Final Requirements).

In-demand industry sector or occupation means—

(a) An industry sector that has a substantial current or potential impact (including through jobs that lead to economic self-sufficiency and opportunities for advancement) on the State, regional, or local economy, as appropriate, and that contributes to the growth or stability of other supporting businesses, or the growth of other industry sectors; or

(b) An occupation that currently has or is projected to have a number of positions (including positions that lead to economic self-sufficiency and opportunities for advancement) in an industry sector so as to have a significant impact on the State, regional, or local economy, as appropriate. (29 U.S.C. 3102(23)).

Institution of higher education means—

(a) An educational institution in any State that—

(1) Admits as regular students only persons having a certificate of graduation from a school providing secondary education, or the recognized equivalent of such a certificate or persons who meet the requirements of section 1091(d) of this title;

(2) Is legally authorized within such State to provide a program of education beyond secondary education;

(3) Provides an educational program for which the institution awards a bachelor's degree or provides not less than a two-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary for the granting of pre-accreditation status, and the Secretary has determined that there is satisfactory assurance that the institution will meet the accreditation standards of such an agency or association within a reasonable time.

(b) The term also includes—

(1) Any school that provides not less than a one-year program of training to prepare students for gainful employment in a recognized occupation and that meets the provisions of paragraphs (1), (2), (4), and (5) of paragraph (a); and

(2) A public or nonprofit private educational institution in any State that, in lieu of the requirement in paragraph (a)(1) of this definition, admits as regular students individuals—

(A) Who are beyond the age of compulsory school attendance in the State in which the institution is located; or

(B) Who will be dually or concurrently enrolled in the institution and a secondary school. (20 U.S.C. 1001(a) and (b)).

Logic model (also referred to as a theory of action) means a framework that identifies key project components of the proposed project (i.e., the active “ingredients” that are hypothesized to be critical to achieving the relevant outcomes) and describes the theoretical and operational relationships among the key project components and relevant outcomes. (34 CFR 77.1).

Native Hawaiian means any individual any of whose ancestors were natives, prior to 1778, of the area which now comprises the State of Hawaii. (20 U.S.C. 2326(a)(3))

Project component means an activity, strategy, intervention, process, product, practice, or policy included in a project. Evidence may pertain to an individual project component or to a combination of project components (e.g., training teachers on instructional practices for English learners and follow-on coaching for these teachers). (34 CFR 77.1).

Professional development means activities that—

(a) Are an integral part of eligible agency, eligible recipient, institution, or school strategies for providing educators (including teachers, principals, other school leaders, administrators, specialized instructional support personnel, career guidance and academic counselors, and paraprofessionals) with the knowledge and skills necessary to enable students to succeed in career and technical education, to meet challenging State academic standards under section 1111(b)(1) of ESEA, or to achieve academic skills at the postsecondary level; and

(b) Are sustained (not stand-alone, one-day, or short-term workshops), intensive, collaborative, job-embedded, data-driven, and classroom-focused, to the extent practicable evidence-based, and may include activities that—

(1) Improve and increase educators'—

(A) Knowledge of the academic and technical subjects;

(B) Understanding of how students learn; and

(C) Ability to analyze student work and achievement from multiple sources, including how to adjust instructional strategies, assessments, and materials based on such analysis;

(2) Are an integral part of eligible recipients' improvement plans;

(3) Allow personalized plans for each educator to address the educator's specific needs identified in observation or other feedback;

(4) Support the recruitment, hiring, and training of effective educators, including educators who became certified through State and local alternative routes to certification;

(5) Advance educator understanding of—

(A) Effective instructional strategies that are evidence-based; and

(B) Strategies for improving student academic and technical achievement or substantially increasing the knowledge and teaching skills of educators;

(6) Are developed with extensive participation of educators, parents, students, and representatives of Indian Tribes (as applicable), of schools and institutions served under the Act;

(7) Are designed to give educators of students who are English learners in career and technical education programs or programs of study the knowledge and skills to provide instruction and appropriate language and academic support services to those students, including the appropriate use of curricula and assessments;

(8) As a whole, are regularly evaluated for their impact on increased educator effectiveness and improved student academic and technical achievement, with the findings of the evaluations used to improve the quality of professional development;

(9) Are designed to give educators of individuals with disabilities in career and technical education programs or programs of study the knowledge and skills to provide instruction and academic support services to those individuals, including positive behavioral interventions and supports, multi-tier system of supports, and use of accommodations;

(10) Include instruction in the use of data and assessments to inform and instruct classroom practice;

(11) Include instruction in ways that educators may work more effectively with parents and families;

(12) Provide follow-up training to educators who have participated in activities described in this definition that are designed to ensure that the knowledge and skills learned by the educators are implemented in the classroom;

(13) Promote the integration of academic knowledge and skills and relevant technical knowledge and skills, including programming jointly delivered to academic and career and technical education teachers; or

(14) Increase the ability of educators providing career and technical education instruction to stay current with industry standards. (20 U.S.C. 2302(40)).

Program of study means a coordinated, nonduplicative sequence of academic and technical content at the secondary and postsecondary level that—

(A) Incorporates challenging State academic standards, including those adopted by a State under section 1111(b)(1) of ESEA;

(B) Addresses both academic and technical knowledge and skills, including employability skills;

(C) Is aligned with the needs of industries in the economy of the State, region, Tribal community, or local area;

(D) Progresses in specificity (beginning with all aspects of an industry or career cluster and leading to more occupation-specific instruction);

(E) Has multiple entry and exit points that incorporate credentialing; and

(F) Culminates in the attainment of a recognized postsecondary credential. (20 U.S.C. 2302(41)).

Recognized postsecondary credential means a credential consisting of an industry-recognized certificate or certification, a certificate of completion of an apprenticeship, a license recognized by the State involved or Federal Government, or an associate or baccalaureate degree. (29 U.S.C. 3102(52)).

Relevant outcome means the student outcome(s) or other outcome(s) the key project component is designed to improve, consistent with the specific goals of the program. (34 CFR 77.1).

Secondary school means a nonprofit institutional day or residential school, including a public secondary charter school, that provides secondary education, as determined under State law, except that the term does not include any education beyond grade 12. (20 U.S.C. 7801(45)).

Special populations means—

(a) Individuals with disabilities;

(b) Individuals from economically disadvantaged families, including low-income youth and adults;

(c) Individuals preparing for non-traditional fields;

(d) Single parents, including single pregnant women;

(e) Out-of-workforce individuals;

(f) English learners;

(g) Homeless individuals described in section 725 of the McKinney-Vento Homeless Assistance Act (42 U.S.C. 11434a);

(h) Youth who are in, or have aged out of, the foster care system; and

(i) Youth with a parent who—

(i) Is a member of the armed forces (as such term is defined in section 101(a)(4) of title 10, United States Code); and

(ii) Is on active duty (as such term is defined in section 101(d)(1) of such title). (20 U.S.C. 2302(48)).

Stipend means a subsistence allowance—

(a) For a student who is enrolled in a career and technical education program funded under the NHCTEP;

(b) For a student who has an acute economic need that cannot be met through work-study programs; and

(c) That is necessary for the student to participate in a project funded under this program. (Notice of Final Requirements).

Support services means services related to curriculum modification, equipment modification, classroom modification, supportive personnel (including paraprofessionals and specialized instructional support personnel), and instructional aids and devices. (20 U.S.C. 2302(50)).

Work-based learning means sustained interactions with industry or community professionals in real workplace settings, to the extent practicable, or simulated environments at an educational institution that foster in-depth, firsthand engagement with the tasks required of a given career field, that are aligned to curriculum and instruction. (20 U.S.C. 2302(55)).

Waiver of Proposed Rulemaking: Under the Administrative Procedure Act (5 U.S.C. 553), the Department generally offers interested parties the opportunity to comment on proposed selection criteria and other requirements. Section 437(d)(1) of GEPA, however, allows the Secretary to exempt from rulemaking requirements regulations governing the first grant competition under a new or substantially revised program authority. This is the first grant competition for this substantially revised program under section 116 of the Carl D. Perkins Career and Technical Education Act of 2006, as amended by the Strengthening Career and Technical Education for the 21st Century Act, 20 U.S.C. 2326, and therefore qualifies for this exemption. In order to ensure timely grant awards, the Secretary has decided to forgo public comment on certain requirements and selection criteria under section 437(d)(1) of GEPA. These requirements and selection criteria will apply to the FY 2021 grant competition and any subsequent year in which we make awards from the list of unfunded applications from this competition.

Program Authority: 20 U.S.C. 2301, et seq., particularly 2326(a)-(h).

Note: Projects must be awarded and operated in a manner consistent with the nondiscrimination requirements contained in the U.S. Constitution and the Federal civil rights laws.

Applicable Regulations: (a) The Education Department General Administrative Regulations (EDGAR) in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Notice of Final Requirements. (e) The Supplemental Priorities. (f) The Administrative Priorities.

Note: The regulations in 34 CFR 86 apply to institutions of higher education only.

II. Award Information

Type of Award: Discretionary grants.

Estimated Available Funds: $3,176,000 for the first 12 months of the project period. Funding for years two, three, four, and five is subject to the availability of funds and to a grantee meeting the requirements of 34 CFR 75.253.

Contingent upon the availability of funds and the quality of applications, we may make additional awards later in FY 2021 or in subsequent years from the list of unfunded applications from this competition.

Estimated Range of Awards: $250,000 to $500,000.

Estimated Average Size of Awards: $350,000.

Estimated Number of Awards: 9-10.

Note: The Department is not bound by any estimates in this notice.

Project Period: Up to 60 months.

III. Eligibility Information

1. Eligible Applicants: The following entities are eligible to apply under this competition:

(a) Community-based organizations primarily serving and representing Native Hawaiians. For purposes of the NHCTEP, a community-based organization means a public or private organization that provides career and technical education, or related services, to individuals in the Native Hawaiian community.

(b) Any community-based organization may apply individually or as part of a consortium with one or more eligible community-based organizations. (Eligible applicants seeking to apply for funds as a consortium must meet the requirements in 34 CFR 75.127-75.129.).

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This program does not require cost sharing or matching.

b. Supplement-Not-Supplant: This competition involves supplement-not-supplant funding requirements. In accordance with section 211(a) of Perkins V (20 U.S.C. 2391(a)), funds under this program may not be used to supplant non-Federal funds used to carry out CTE activities.

We caution applicants not to plan to use funds under NHCTEP to replace otherwise available non-Federal funding for direct assistance to students and family assistance programs. For example, NHCTEP funds must not be used to supplant other non-Federal funds with Federal funds in order to pay the costs of students' tuition, dependent care, transportation, books, supplies, and other costs associated with participation in a CTE program.

Funds under NHCTEP should not be used to replace Federal student financial aid. Perkins V does not authorize the Secretary to fund projects that serve primarily as entities through which students may apply for and receive tuition and other financial assistance.

c. Indirect Cost Rate Information: This program uses a restricted indirect cost rate. For more information regarding indirect costs, or to obtain a negotiated indirect cost rate, please see: www2.ed.gov/about/offices/list/ocfo/intro.html.

d. Administrative Cost Limitation: This program does not include any program-specific limitation on administrative expenses. All administrative expenses must be reasonable and necessary and conform to Cost Principles described in 2 CFR part 200 subpart E of the Uniform Guidance.

e. Limitation on Services: Section 215 of Perkins V (20 U.S.C. 2395) forbids the use of Perkins funds for the education of students prior to the middle grades. The term “middle grades” refers to grades 5 through 8, as defined in section 8101 of ESEA.

3. Subgrantees: Under 34 CFR 75.708(b) and (c) a grantee under this competition may award subgrants—to directly carry out project activities described in its application—to the following types of entities: Institutions of higher education, nonprofit organizations, local educational agencies. The grantee may award subgrants to entities it has identified in an approved application or that it selects through a competition under procedures established by the grantee.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the NHCTEP program, your application may include business information that you consider proprietary. In 34 CFR 5.11 we define “business information” and describe the process we use in determining whether any of that information is proprietary and, thus, protected from disclosure under Exemption 4 of the Freedom of Information Act (5 U.S.C. 552, as amended).

Because we plan to make successful applications available to the public on the Department's website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to 35 pages and (2) use the following standards:

• A “page” is 8.5” x 11”, on one side only, with 1” margins at the top, bottom, and both sides.

• Double-space (no more than three lines per vertical inch) all text in the application narrative, including titles, headings, footnotes, quotations, references, and captions, as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; the one-page abstract; the resumes; the bibliography; or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do not submit a notice of intent to apply are not bound to apply or bound by the information provided.

V. Application Review Information

1. Selection Criteria: The selection criteria for this program are from 34 CFR 75.210 or are established in accordance with section 437(d)(1) of GEPA. The source and maximum score for each criterion are indicated in parentheses.

(a) Quality of the project design (Up to 50 points). The Secretary considers the quality of the design of the proposed project. In determining the quality of the design of the proposed project, the Secretary considers the following factors:

(1) The extent to which the services to be provided by the proposed project will create and offer activities that focus on enabling participants to obtain the skills necessary to gain employment in high-skill, high-wage, and in-demand occupations in emerging fields or in a specific career field. (Section 437(d)(1) of GEPA). (Up to 20 points).

(2) The extent to which the services to be provided by the proposed project reflect up-to-date knowledge from research and effective practice. (34 CFR 75.210). (Up to 15 points).

(3) The extent to which the design of the proposed project is appropriate to, and will successfully address, the needs of the target population or other identified needs. (34 CFR 75.210). (Up to 5 points).

(4) The extent to which the proposed project will integrate with or build on similar or related efforts to improve relevant outcomes (as defined in 34 CFR 77.1(c)), using existing funding streams from other programs or policies supported by community, State, and Federal resources. (34 CFR 75.210). (Up to 5 points).

(5) The extent to which the training or professional development services to be provided by the proposed project are of sufficient quality, intensity, and duration to lead to improvements in practice among the recipients of those services. (34 CFR 75.210). (Up to 5 points).

(b) Quality of the management plan and project personnel (Up to 25 points). The Secretary considers the quality of the management plan for, and the quality of the personnel who will carry out, the proposed project. In determining the quality of the management plan and the project personnel for the proposed project, the Secretary considers the following factors:

(1) The adequacy of the management plan to achieve the objectives of the proposed project on time and within budget, including clearly defined responsibilities, timelines, and milestones for accomplishing project tasks. (34 CFR 75.210). (Up to 10 points).

(2) The extent to which the applicant encourages applications for employment from persons who are members of groups that have traditionally been underrepresented based on race, color, national origin, gender, age, or disability. (34 CFR 75.210). (Up to 5 points).

(3) The extent to which the time commitments of the project director and principal investigator and other key project personnel are appropriate and adequate to meet the objectives of the proposed project. (34 CFR 75.210). (Up to 5 points).

(4) The qualifications, including relevant training and experience, of the project director or principal investigator, key project personnel, and project consultants or subcontractors. (34 CFR 75.210). (Up to 5 points).

(c) Adequacy of resources (Up to 10 points). The Secretary considers the adequacy of resources for the proposed project. In determining the adequacy of resources for the proposed project, the Secretary considers the following factors:

(1) The adequacy of support, including facilities, equipment, supplies, and other resources, from the applicant organization or the lead applicant organization. (34 CFR 75.210). (Up to 2 points).

(2) The extent to which the budget is adequate to support the proposed project and the costs are reasonable in relation to the objectives, design, and potential significance of the proposed project. (34 CFR 75.210). (Up to 5 points).

(3) The relevance and demonstrated commitment of each partner in the proposed project to the implementation and success of the project. (34 CFR 75.210). (Up to 3 points).

(d) Quality of the project evaluation (Up to 10 points). The Secretary considers the quality of the evaluation to be conducted of the proposed project. In determining the quality of the evaluation, the Secretary considers the following factors:

(1) The extent to which the methods of evaluation include the use of objective performance measures that are clearly related to the intended outcomes of the project and will produce quantitative and qualitative data to the extent possible. (34 CFR 75.210). (Up to 5 points).

(2) The extent to which the methods of evaluation will provide performance feedback and permit periodic assessment of progress toward achieving intended outcomes. (34 CFR 75.210). (Up to 5 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Special Conditions: Consistent with 2 CFR 200.205, before awarding grants under this competition, the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

a. Selecting recipients most likely to be successful in delivering results based on the program objectives through an objective process of evaluating Federal award applications (2 CFR 200.205);

b. Prohibiting the purchase of certain telecommunication and video surveillance services or equipment in alignment with section 889 of the National Defense Authorization Act of 2019 (Pub. L. 115-232) (2 CFR 200.216);

c. Promoting the freedom of speech and religious liberty in alignment with Promoting Free Speech and Religious Liberty (E.O. 13798) and Improving Free Inquiry, Transparency, and Accountability at Colleges and Universities (E.O. 13864) (2 CFR 200.300, 200.303, 200.339, and 200.341);

d. Providing a preference, to the extent permitted by law, to maximize use of goods, products, and materials produced in the United States (2 CFR 200.322); and

e. Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirement: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. The dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The Department has established the following performance measures for purposes of GPRA and for Department reporting under 34 CFR 75.110, which it will use to evaluate the overall performance of the grantee's project, as well as NHCTEP as a whole:

(a) At the secondary level: An increase in—

(1) The percentage of CTE concentrators who graduate high school, as measured by—

(A) The four-year adjusted cohort graduation rate (defined in section 8101 of ESEA); and

(B) At the grantee's discretion, the extended-year adjusted cohort graduation rate (defined in section 8101 of ESEA);

(2) The percentage of CTE concentrators graduating from high school having attained postsecondary credits in the relevant CTE program earned through a dual or concurrent enrollment program or another credit transfer agreement;

(3) The percentage of CTE concentrators graduating from high school having participated in work-based learning;

(4) The percentage of CTE concentrators graduating from high school having attained a recognized postsecondary credential; and

(5) The percentage of CTE concentrators who, after exiting from secondary education, are in postsecondary education or advanced training, military service, or a service program, or are employed.

(b) At the postsecondary level: An increase in—

(1) The percentage of CTE concentrators who remain enrolled in postsecondary education, are in advanced training, military service, or a service program, or are employed; and

(2) The percentage of CTE concentrators who receive a recognized postsecondary credential.

Project-Specific Performance Measures:

In addition to these measures, applicants may propose project-specific performance measures and performance targets consistent with the objectives of the proposed project. Examples of such project-specific performance measures could include student recruitment, student participation in work-based learning at the postsecondary level, and teacher and faculty participation in professional development.

Note: All grantees will be expected to submit a semi-annual and an annual performance report addressing these performance measures, to the extent that these performance measures apply to each grantee's NHCTEP project.

6. Continuation Awards: In making a continuation award under 34 CFR 75.253, the Secretary considers, among other things: Whether a grantee has made substantial progress in achieving the goals and objectives of the project; Whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Scott Stump,
Assistant Secretary for Career, Technical, and Adult Education.

[FR Doc. 2021-00809 Filed 1-15-21; 8:45 am]

BILLING CODE 4000-01-P